DEPARTMENT OF TRANSPORTATION

Federal Aviation Administration

14 CFR Part 39

[Docket No. 2000-NE-11-AD; Amendment 39-11912; AD 2000-20-01]

RIN 2120-AA64

Airworthiness Directives; Turbomeca Arriel 1 Series Turboshaft Engines; Correction

AGENCY: Federal Aviation Administration, DOT.

ACTION: Final rule; correction

SUMMARY: This document makes a correction to Airworthiness Directive (AD) 2000-20-01 applicable to Turbomeca Arriel 1 series turboshaft engines that was published in the Federal Register on October 2, 2000 (65 FR 58640). The listing of helicopters on which the affected engines might be installed in the table in the Applicability section is incorrect. This document corrects that listing. In all other respects, the original document remains the same.

EFFECTIVE DATE: October 17, 2000.

FOR FURTHER INFORMATION CONTACT: James Rosa, Aerospace Engineer, Engine Certification Office, FAA, Engine and Propeller Directorate, 12 New England Executive Park, Burlington, MA 01803-5299; telephone (781) 238-7152, fax (781) 238-7199 .

SUPPLEMENTARY INFORMATION: A final rule airworthiness directive (FR Doc 00-24900) applicable to Turbomeca Arriel 1 series turboshaft engines, was published in the Federal Register on October 2, 2000 (65 FR 58640). The following correction is needed:

§ 39.13 [Corrected]

On page 58641, in the second column, in the APPLICABILITY Section, the table in the third paragraph from the top of the column,

Eurocopter AS 356 C | Eurocopter AS 365 C1 | Eurocopter AS 350 BA.
Eurocopter AS 356 N2 | Eurocopter AS 350 B | Eurocopter AS 350 B2N.
Eurocopter AS 350 D | Eurocopter AS 550 U2 | Augusta A109K2.
Sikorsky S76A | Sikorsky 76A | Sikorsky 76A.
Sikorsky S76C”

is corrected to read “

Eurocopter SA 365 C; | Eurocopter SA 365 C1; | Eurocopter AS 350 BA;
Eurocopter AS 365 N2; | Eurocopter AS 350 B; | Eurocopter AS 350 B2;
Sikorsky S76C; | Augusta A109K2”

Issued in Burlington, MA, on September 21, 2000.
David A. Downey,
Assistant Manager, Engine and Propeller Directorate, Aircraft Certification Service.

[FR Doc. 00-28959 Filed 11-24-00; 8:45 am]

BILLING CODE 4910-13-P